DEPARTMENT OF LABOR

Occupational Safety and Health Administration

[Docket No. ICR-1218-0115(2001)]

Cranes and Derricks Standard for Construction: Notification of Operational Specifications and Hand Signals; Extension of the Office of Management and Budget's (OMB) Approval of Information-Collection (Paperwork) Requirements

AGENCY: Occupational Safety and Health Administration (OSHA), Labor.

ACTION: Notice of an opportunity for public comment.

SUMMARY: OSHA solicits public comment concerning its request to increase the total burden-hour estimate for, and to extend OMB approval of, the collection-of-information requirements specified by paragraphs (a)(1), (a)(2), (a)(4), and (a)(16) of the Cranes and Derricks Standard for Construction (29 CFR 1926.550). These paragraphs require employers to provide notification of specified operating characteristics pertaining to cranes and derricks using documentation, posting, or revised maintenance-instruction plates, tags, or decals, and to notify employees of hand signals used to communicate with equipment operators by posting an illustration of applicable signals at the worksite.

DATES: Submit written comments on or before September 10, 2001.

ADDRESSES: Submit written comments to the Docket Office, Docket No. ICR-1218-0115(2001), OSHA, U.S. Department of Labor, Room N-2625, 200 Constitution Avenue, NW., Washington, DC 20210; telephone (202) 693-2350. Commenters may transmit written comments of 10 pages or less by facsimile to (202) 693-1648.

FOR FURTHER INFORMATION CONTACT: Kathleen M. Martinez, Directorate of Policy, Office of Regulatory Analysis, OSHA, U.S. Department of Labor, Room N-3609, 200 Constitution Avenue, NW., Washington, DC 20210; telephone (202) 693-1953. A copy of the Agency's Information-Collection Request (ICR) supporting the need for the information collections specified by paragraphs (a)(1), (a)(2), (a)(4), and (a)(16) of § 1926.550 is available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

Several paragraphs of the Cranes and Derricks Standard for Construction (§ 1926.550) contain notification requirements, including paragraphs (a)(1), (a)(2), (a)(4), and (a)(16). If an equipment manufacturer's specifications are not available, paragraph (a)(1) requires employers to operate a crane or derrick using specifications determined and recorded by a qualified engineer who is competent to make such determinations. Under paragraph (a)(2), employers must post on each crane and derrick its rated load capacities, and recommended operating speeds, special hazard warnings, or instruction. Paragraph (a)(4) requires employers to post at the worksite an illustration of the hand signals prescribed by the applicable ANSI standard for that type of crane or derrick. According to paragraph (a)(16), employers must revise as appropriate the capacity, operation, and maintenance-instruction plates, tags, or decals if they make alterations that involve the capacity or safe operation of a crane or derrick.

In summary, these provisions require employers to provide notification of specified operating characteristics through documentation, posting, or revising maintenance-instruction plates, tags, or decals, and to notify employees of hand signals used to communicate with equipment operators by posting an illustration of applicable signals at the worksite. These paperwork requirements ensure that employers operate a crane or derrick according to the limitations and specifications developed for that equipment, and that hand signals used to communicate with equipment operators are clear and correct. Therefore, these requirements prevent employers from exceeding the operating specifications and limitations of cranes and derricks, and ensure that they use accurate hand signals regarding equipment operation. By operating the equipment safely and within specified parameters, and communicating effectively with equipment operators, employers will prevent serious injury and death to the equipment operators and other employees who use or work near the equipment.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is requesting OMB to increase the total burden hours estimated for, and to extend its approval of, the collection-of-information requirements specified by paragraphs (a)(1), (a)(2), (a)(4), and (a)(16) of § 1926.550. Specifically, the Agency is requesting to increase the estimated total burden hours from 4,996 to 5,644 hours, an increase of 648 hours. These additional burden hours resulted from an increase in the estimated number of cranes and derricks covered by the paperwork requirements.

The Agency will summarize the comments submitted in response to this notice. OSHA will then include this summary in its request to OMB to increase the existing burden-hour estimates for, and to extend approval of, these information-collection requirements.

Type of Review: Extension of currently approved information-collection requirements.

Title: Cranes and Derricks Standard for Construction: Notification of Operational Specifications and Hand Signals.

OMB Number: 1218-0115.

Affected Public: Business or other for-profit; not-for-profit institutions; Federal government; State, local or tribal governments.

Number of Respondents: 67,715.¹

¹ In estimating the number of establishments covered by these paperwork requirements, the Agency assumes a ratio of 1 crane or derrick per establishment. The determinations made by OSHA in the accompanying ICR indicate that paragraphs (a)(2), (a)(4), and (a)(16) cover 67,715 cranes and derricks, resulting in an equal number of establishments (i.e., 67,715). In addition, the Agency finds that engineers under contract to employers provide the documentation specified by paragraph (a)(1); therefore, OSHA treats this paperwork requirement as a capital cost under Item 13 of the ICR, and did not include it in calculating values for the categories entitled “Number of Respondents” and “Estimated Total Burden Hours.”

Frequency of Response: On occasion.

Average Time per Response: 5 minutes (.08 hour) to post specifications or hand-signal illustrations.

Estimated Total Burden Hours: 5,644.

Estimated Cost (Operation and Maintenance): $398,353.

IV. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

R. Davis Layne,
Acting Assistant Secretary of Labor.

[FR Doc. 01-17219 Filed 7-9-01; 8:45 am]

BILLING CODE 4510-26-M